FEDERAL COMMUNICATIONS COMMISSION

47 CFR Part 73

[DA 07-2040; MB Docket No. 05-143; RM-11221; RM-11286]

Radio Broadcasting Services; Romney and Wardensville, WV

AGENCY: Federal Communications Commission.

ACTION: Final rule.

SUMMARY: The Audio Division, at the request of Hardy County Broadcast Associates, allots Channel 239A at Wardensville, West Virginia, as the community's first local FM service. Channel 239A can be allotted to Wardensville, West Virginia, in compliance with the Commission's minimum distance separation requirements with at city reference coordinates: 39-04-30 North Latitude and 78-35-53 West Longitude. Because Wardensville is located within the protected areas of the National Radio Astronomy Observatory “Quiet Zone” at Green Bank, West Virginia, the successful applicant for Channel 239A at Wardensville will be required to comply with the notification requirement of Section 73.1030(a) of the Commission's rules, 47 CFR 73.1030(a).

DATES: Effective June 25, 2007.

ADDRESSES: Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket No. 05-143, adopted May 9, 2007, and released May 11, 2007. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under West Virginia, is amended by adding Wardensville, Channel 239A.

Federal Communications Commission.
John A. Karousos,
Assistant Chief, Audio Division, Media Bureau.

[FR Doc. E7-10360 Filed 5-29-07; 8:45 am]

BILLING CODE 6712-01-P